DEPARTMENT OF ENERGY

Federal Energy Regulatory Commission

Combined Notice of Filings #1

Take notice that the Commission received the following electric rate filings:

Docket Numbers: ER15-1250-000.

Applicants: ITC Midwest LLC.

Description: Formal Challenge of Interstate Power and Light Company to Inputs into Formula Rate of ITC Midwest, LLC.

Filed Date: 12/18/15.

Accession Number: 20151218-5279.

Comments Due: 5 p.m. ET 2/3/16.

Docket Numbers: ER16-193-001.

Applicants: PacifiCorp.

Description: Tariff Amendment: WECC Unscheduled Flow Mitigation Plan Rev 2b Deficiency Filing to be effective 1/1/2016.

Filed Date: 1/12/16.

Accession Number: 20160112-5229.

Comments Due: 5 p.m. ET 2/2/16.

Docket Numbers: ER16-206-002.

Applicants: Midcontinent Independent System Operator, Inc., ITC Midwest LLC.

Description: Tariff Amendment: 2016-01-12_SA 2862 Deficiency Response ITCM-WPL FSA (G870) to be effective 11/1/2015.

Filed Date: 1/12/16.

Accession Number: 20160112-5083.

Comments Due: 5 p.m. ET 2/2/16.

Docket Numbers: ER16-487-001.

Applicants: Pacific Gas and Electric Company.

Description: Tariff Amendment: Errata Filing for the Transmission Access Charge Balancing Account Adjustment to be effective 3/1/2016.

Filed Date: 1/12/16.

Accession Number: 20160112-5247.

Comments Due: 5 p.m. ET 2/2/16.

Docket Numbers: ER16-696-001.

Applicants: Midcontinent Independent System Operator, Inc.

Description: Compliance filing: 2016-01-12_Amendment to Attachment X Funding Options Filing to be effective 8/1/2015.

Filed Date: 1/12/16.

Accession Number: 20160112-5176.

Comments Due: 5 p.m. ET 2/2/16.

Docket Numbers: ER16-721-000.

Applicants: Deseret Generation & Transmission Co-operative, Inc.

Description: § 205(d) Rate Filing: Attachment K eTariff Record Cleanup Filing to be effective 1/1/2016.

Filed Date: 1/12/16.

Accession Number: 20160112-5220.

Comments Due: 5 p.m. ET 2/2/16.

Docket Numbers: ER16-722-000.

Applicants: Current Power & Gas Inc.

Description: Baseline eTariff Filing: Current Power & Gas Inc. FERC Tariff Filing to be effective 1/13/2016.

Filed Date: 1/13/16.

Accession Number: 20160113-5006.

Comments Due: 5 p.m. ET 2/3/16.

Docket Numbers: ER16-723-000.

Applicants: PJM Interconnection, L.L.C.

Description: § 205(d) Rate Filing: Original Service Agreement No. 4331; Queue AA1-015 (ISA) to be effective 12/14/2015.

Filed Date: 1/13/16.

Accession Number: 20160113-5090.

Comments Due: 5 p.m. ET 2/3/16.

Take notice that the Commission received the following public utility holding company filings:

Docket Numbers: PH16-3-000.

Applicants: Consolidated Edison, Inc.

Description: Consolidated Edison, Inc. submits FERC 65-B Material Change in Facts of Waiver Notification.

Filed Date: 1/13/16.

Accession Number: 20160113-5088.

Comments Due: 5 p.m. ET 2/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2016.
Nathaniel J. Davis, Sr.,
Deputy Secretary.

[FR Doc. 2016-00963 Filed 1-19-16; 8:45 am]

BILLING CODE 6717-01-P